DEPARTMENT OF HOUSING AND URBAN DEVELOPMENT

[Docket No. FR-4563-N-07]

Notice of Proposed Information Collection for Public Comment for the Comprehensive Improvement Assistance Program (CIAP); Budget/Progress Report, Actual Modernization Cost Certificate

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: August 29, 2000.

ADDRESSES: Interested persons are invited to submit comments regarding this proposal. Comments should refer to the proposal by name and/or OMB control number and should be sent to: Mildred M. Hamman, Reports Liaison Officer, Public and Indian Housing, Department of Housing and Urban Development, 451 7th Street, SW., Room 4238, Washington, DC 20410-5000.

FOR FURTHER INFORMATION CONTACT: Mildred M. Hamman, (202) 708-3642, extension 4128, for copies of the proposed forms and other available documents. (This is not a toll-free number).

SUPPLEMENTARY INFORMATION: The Department will submit the proposed information collection to OMB for review, as required by the Paperwork Reduction act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Comprehensive Improvement Assistance Program (CIAP): CIAP Budget/Progress Report, Actual Modernization Cost Certificate (AMCC).

OMB Control Number: 2577-0044.

Description of the need for the information and proposed use: When requested by HUD, grantees must prepare the CIAP Budget for the modernization program, describing the activities which are planned to be undertaken with the CIAP funds. On an as-needed basis, grantees can submit a revised CIAP Budget when prior HUD approval is required to revise the Budget. Grantees prepare and submit the Progress Report until all funds are expended. Grantees prepare and submit the Actual Modernization Cost Certificate (AMCC) for each terminated or completed modernization program under CIAP. The CIAP Budget and Progress Report are the controlling documents during implementation in terms of HUD-approved work items and costs.

Agency form numbers, if applicable: HUD-52825; HUD-53001.

Estimation of the total number of hours needed to prepare the information collection including number of respondents, frequency of response, and hours of response: 1,000 respondents (grantees); HUD-52825, once, 8 hours per response, 8,000 hours reporting; HUD-53001, once, 2 hours per response, 2000 hours reporting; 10,000 hours total reporting burden.

Status of the proposed information collection: Reinstatement.

Authority: Section 3506 of the Paperwork Reduction Act of 1995, 44 U.S.C.

Chapter 35, as amended.

Dated: June 26, 2000.
Harold Lucas,
Assistant Secretary for Public and Indian Housing.

BILLING CODE 4210-33-M

[FR Doc. 00-16532 Filed 6-29-00; 8:45 am]

BILLING CODE 4210-33-C